DEPARTMENT OF EDUCATION

Applications for New Awards; Parent Information and Training Program

AGENCY: Office of Special Education and Rehabilitative Services, Department of Education.

ACTION: Notice.

SUMMARY: The Department of Education (Department) is issuing a notice inviting applications for new awards for fiscal year (FY) 2025 for the Parent Information and Training Program.

DATES:

Applications Available: May 29, 2025.

Application Deadline: July 18, 2025.

Deadline for Intergovernmental Review: September 16, 2025.

ADDRESSES: For the addresses for obtaining and submitting an application, please refer to our Common Instructions for Applicants to Department of Education Discretionary Grant Programs, published in the Federal Register on December 23, 2024 (89 FR 104528) and available at https://www.federalregister.gov/d/2024-30488.

FOR FURTHER INFORMATION CONTACT: Tara Jordan, U.S. Department of Education, 400 Maryland Avenue SW, Washington, DC 20202. Telephone: (202) 987-0143. Email: Tara.Jordan@ed.gov.

If you are deaf, hard of hearing, or have a speech disability and wish to access telecommunications relay services, please dial 7-1-1.

SUPPLEMENTARY INFORMATION:

Full Text of Announcement

Funding Opportunity Description

Purpose of Program: The purpose of the Parent Information and Training (PTI) centers is to meet the information and training needs of individuals with disabilities and their families, so that individuals with disabilities can achieve their employment and independent living goals. The Department intends to fund eight Regional Parent Information and Training Centers (PTIs) (Assistance Listing Number (ALN) 84.235F) and one National PTI Technical Assistance (TA) Center (ALN 84.235G) as part of this program administered by the Rehabilitation Services Administration (RSA).

Assistance Listing Number (ALN):

ALN 84.235F—Regional PTI Centers.

ALN 84.235G—National PTI TA Center.

OMB Control Number: 1820-0018.

Eligible Applicants: Private nonprofit organizations that meet the requirements in section 303(c)(4) of the Rehabilitation Act of 1973, as amended (Rehabilitation Act). An applicant must—

(a) Include information demonstrating the capacity and expertise of the organization to—

(i) Coordinate training and information activities with Centers for Independent Living;

(ii) Coordinate and work closely with PTIs established pursuant to section 671 of IDEA, the Community Parent Resource Centers pursuant to section 672 of IDEA, and the eligible entities receiving awards under section 673 of IDEA; and

(iii) Effectively conduct the training and information activities authorized in section 303(c) of the Rehabilitation Act;

(b) Be governed by a board of directors that—

(i) Includes professionals in the vocational rehabilitation (VR) field; and on which a majority of the members are individuals with disabilities or the parents, family members, guardians, advocates, or authorized representatives of the individuals (hereafter collectively referred to as “individuals with disabilities and their families”); or

(ii) Has a membership that represents the interests of individuals with disabilities; and establishes a special governing committee to operate a training and information program that includes professionals in the VR field and on which a majority of the members are individuals with disabilities and their families; and may include representatives from special education and other public and private agencies on the board, as appropriate; and

(c) Serve, and demonstrate the capacity for serving, individuals with a full range of disabilities, and the parents, family members, guardians, advocates, or authorized representatives of the individuals.

Type of Award: Discretionary grants.

Estimated Available Funds:

ALN 84.235F: $2,400,000.

ALN 84.235G: $300,000.

Maximum Award:

ALN 84.235F: $300,000.

ALN 84.235G: $300,000.

We will not make an award exceeding the maximum award amount for a single budget period of 12 months.

Estimated Number of Awards: 9.

ALN 84.235F: 8.

ALN 84.235G: 1.

Based on the quality of applications received for projects under ALN 84.235F, the Department intends to fund one PTI in each of the eight regions listed below consistent with section 303(c)(3)(A) of the Rehabilitation Act. Note that the Office of Special Education Programs also funds Parent Training and Information Centers under the ALN 84.328M program. Previous cohorts funded under ALN 84.235 have been located at the same site as a ALN 84.328M center. Similar co-location of projects can occur with FY 2025 grants; such coordination and collaboration are encouraged, but not required. Based on the quality of applications received for projects under ALN 84.235G, the Department intends to fund one national PTI.

Region | States within region
A-1 | Connecticut, Maine, Massachusetts, New Hampshire, Rhode Island, Vermont.
A-2 | Delaware, Maryland, New Jersey, New York, Pennsylvania, District of Columbia, Puerto Rico, U.S. Virgin Islands.
B-1 | Florida, Georgia, North Carolina, South Carolina, Tennessee, Virginia.
B-2 | Alabama, Arkansas, Louisiana, Mississippi, Oklahoma, Texas.
C-1 | Illinois, Indiana, Kentucky, Michigan, Minnesota, Ohio, West Virginia, Wisconsin.
C-2 | Iowa, Kansas, Missouri, Montana, Nebraska, North Dakota, South Dakota, Wyoming.
D-1 | Alaska, Hawaii, Oregon, Washington, American Samoa, the Commonwealth of the Northern Mariana Islands, Guam.
D-2 | Arizona, California, Colorado, Idaho, Nevada, New Mexico, Utah.
National | All.

Note: The Department is not bound by any estimates in this notice.

Project Period: Up to 60 months.

Background:

Based on program data from RSA's administration of the PTI program, individuals with disabilities and their families, particularly those from underserved populations, commonly experience difficulty acquiring accurate information from—and navigating—a complex VR system. The PTI centers can help improve understanding of the varied VR services and eligibility requirements for programs serving adults and youth with disabilities by coordinating and establishing partnerships with professionals to provide information to effectively access services. PTI centers also provide technical assistance (TA) for transition employment programs so that individuals with disabilities experience a smooth transition from secondary school to employment and other pre-employment and post-school activities.

Family engagement is also vital for successful post-school transitions. PTI centers assist families to engage more frequently and effectively in support of the education, employment, and independent living goals of individuals with disabilities.

In addition to family engagement, community involvement and collaboration has the potential to help enhance the impact of services for individuals with disabilities and their families. For example, parents can identify family volunteering opportunities that lead to service learning or work-based learning experiences critical for job training; this may also support ongoing civic engagement, integration into the community, and contributions as a member of society. PTI centers also create or expand partnerships with community-based organizations to enhance supports and services available to individuals with disabilities and their families.

Absolute Priorities: For FY 2025, there are two absolute priorities, one for regional PTIs (ALN 84.235F) and one for the national PTI (ALN 84.235G). The absolute priorities are from the allowable activities in the statute (see section 303(c)(2) of the Rehabilitation Act, 29 U.S.C. 773(c)(2)). We will only consider applications that meet one of these priorities.

Each application should address only one priority. Applicants may apply for a regional PTI (ALN 84.235F) and the national PTI (ALN 84.235G) but must submit two separate applications (one for each ALN). For example, an applicant submitting for region C-1 and the National PTI must submit separate applications for each.

Priorities:

Absolute Priority 1, Regional PTI Centers: Under this priority, we provide grants to establish or continue regional Parent Information and Training Centers (Regional PTI Centers) that provide information and training to assist individuals with disabilities, and the parents, family members, guardians, advocates, or other authorized representatives of those individuals, to participate more effectively with professionals in meeting the vocational, independent living, and rehabilitation needs of individuals with disabilities.

Absolute Priority 2, National PTI Center: Under this priority, we provide a grant to establish or continue a National Parent Training and Information center (National PTI Center) that provides TA to the Regional PTI Centers and to coordinate the information and training provided by these Regional PTI Centers.

Program Requirements

Under section 303(c)(2) of the Rehabilitation Act, a grantee must use the grant funds awarded to assist individuals with disabilities and their families to achieve the following outcomes:

(a) Better understand VR and independent living programs and services.

(b) Provide follow-up support for transition and employment programs.

(c) Communicate more effectively with transition and rehabilitation personnel and other relevant professionals.

(d) Provide support in the development of the individualized plan for employment.

(e) Provide support and expertise in obtaining information about rehabilitation and independent living programs, services, and resources that are appropriate.

(f) Provide support and guidance in helping individuals with significant disabilities, including students with disabilities, transition to competitive integrated employment.

(g) Understand the provisions of the Rehabilitation Act, particularly provisions relating to employment, supported employment, and independent living.

Note: In responding to the priorities and selection criteria, applicants for Regional PTI center grants should address how the proposed project will meet these program requirements; and applicants for the National PTI center should address how they will provide TA to regional centers to help them meet these program requirements.

Selection Criteria: The selection criteria for this competition are from 34 CFR 75.210 and are as follows:

(a) Significance. (20 points).

(1) The Secretary considers the significance of the proposed project.

(2) In determining the significance of the proposed project, the Secretary considers the following factors:

(i) The importance or magnitude of the results or outcomes likely to be attained by the proposed project, especially improvements in employment, independent living services, or both, as appropriate.

(ii) The extent to which the proposed project will provide support, resources, or services; or otherwise address the needs of the target population, including addressing the needs of underserved populations most affected by the issue, challenge, or opportunity, to be addressed by the proposed project and close gaps in educational opportunity.

(iii) The likely utility of the resources (such as materials, processes, techniques, or data infrastructure) that will result from the proposed project, including the potential for effective use in a variety of conditions, populations, or settings.

(iv) The extent to which the resources, tools, and implementation lessons of the proposed project will be disseminated in ways to the target population and local community that will enable them and others (including practitioners, researchers, education leaders, and partners) to implement similar strategies.

(b) Quality of the project design. (25 points)

(1) The Secretary considers the quality of the design of the proposed project.

(2) In determining the quality of the design of the proposed project, the Secretary considers the following factors:

(i) The extent to which the goals, objectives, and outcomes to be achieved by the proposed project are clearly specified, measurable, and ambitious yet achievable within the project period, and aligned with the purposes of the grant program.

(ii) The extent to which the proposed project includes explicit plans for authentic, meaningful, and ongoing community member and partner engagement, including their involvement in planning, implementing, and revising project activities for underserved populations.

(iii) The extent to which the services to be provided by the proposed project were determined with input from the community to be served to ensure that they are appropriate and responsive to the needs of the intended recipients or beneficiaries, including underserved populations, of those services.

(iv) The extent to which the services to be provided by the proposed project involve the collaboration of appropriate partners, including those from underserved populations, to maximize the effectiveness of project services.

(v) The extent to which the proposed project demonstrates a rationale that is aligned with the purposes of the grant program.

(c) Quality of the project evaluation or other evidence-building. (15 points)

(1) The Secretary considers the quality of the evaluation or other evidence-building of the proposed project.

(2) In determining the quality of the evaluation or other evidence-building, the Secretary considers the following factors:

(i) The extent to which the methods of evaluation or other evidence-building are appropriate to the context within which the project operates and the target population of the proposed project.

(ii) The extent to which the methods of evaluation or other evidence-building will provide performance feedback and provide formative, diagnostic, or interim data that is a periodic assessment of the program toward achieving intended outcomes.

(iii) The extent to which the proposed project proposes specific, measurable targets, connected to strategies, activities, resources, outputs, and outcomes, and uses reliable administrative data to measure progress and inform continuous improvement.

(d) Adequacy of resources. (10 points)

(1) The Secretary considers the adequacy of resources for the proposed project.

(2) In determining the adequacy of resources for the proposed project, the Secretary considers the following factors:

(i) The adequacy of support for the project, including facilities, equipment, supplies, and other resources, from the applicant or the lead applicant organization.

(ii) The extent to which the budget is adequate to support the proposed project and the costs are reasonable in relation to the objectives, design, and potential significance of the proposed project.

(e) Quality of the management plan. (30 points)

(1) The Secretary considers the quality of the management plan for the proposed project.

(2) In determining the quality of the management plan for the proposed project, the Secretary considers the following factors:

(i) The feasibility of the management plan to achieve project objectives and goals on time and within budget, including clearly defined responsibilities, timelines, and milestones for accomplishing project tasks.

(ii) The adequacy of mechanisms for ensuring high-quality and accessible products and services from the proposed project for the target population.

(iii) The extent to which the time commitments of the project director and principal investigator and other key project personnel are appropriate and adequate to meet the objectives of the proposed project.

(iv) The extent to which the project director or principal investigator, when hired, has the qualifications required for the project, including formal training or work experience in fields related to the objectives of the project and experience in designing, managing, or implementing similar projects for the target population to be served by the project.

(v) The relevance and demonstrated commitment of each partner in the proposed project to the implementation and success of the project.

Performance Measures:

For the purposes of Department reporting under 34 CFR 75.110, the Department has established a set of performance measures that are designed to yield information on various aspects of the effectiveness and quality of the PTI centers. These measures are:

• Program Performance Measure 1: The percentage of individuals with disabilities and their families receiving PTI services who report enhanced knowledge and understanding of VR services; and

• Program Performance Measure 2: The percentage of all products and services developed to improve VR service utilization deemed to be useful by individuals with disabilities and their families receiving PTI services.

The data needed to support these measures will be collected by grantees via survey, assessed, and reported in the aggregate to RSA. Grantees will negotiate targets with RSA after the first year, which will be used to establish a baseline.

Definitions:

For FY 2025 and any subsequent year in which we make awards from the list of unfunded applications from this competition, the following definitions apply. The definitions for “continuous improvement,” “demonstrates a rationale,” “evaluation,” “evidence-building,” “logic model,” “project component,” and “relevant outcome” are from 34 CFR 77.1.

Continuous improvement means using plans for collecting and analyzing data about a project component's implementation and outcomes (including the pace and extent to which project outcomes are being met) to inform necessary changes throughout the project. These plans may include strategies to gather ongoing feedback from participants and stakeholders on the implementation of the project component.

Demonstrates a rationale means that there is a key project component included in the project's logic model that is supported by citations of high-quality research or evaluation findings that suggest that the project component is likely to significantly improve relevant outcomes.

Evaluation means an assessment using systematic data collection and analysis of one or more programs, policies, practices, and organizations intended to assess their implementation, outcomes, effectiveness, or efficiency.

Evidence-building means a systematic plan for identifying and answering questions relevant to programs and policies through performance measurement, exploratory studies, or program evaluation.

Logic model (also referred to as a theory of action) means a framework that identifies key project components of the proposed project (i.e., the active “ingredients” that are hypothesized to be critical to achieving the relevant outcomes) and describes the theoretical and operational relationships among the key project components and relevant outcomes.

Project component means an activity, strategy, intervention, process, product, practice, or policy included in a project. Evidence may pertain to an individual project component or to a combination of project components (e.g., training teachers on instructional practices for English learners and follow-on coaching for these teachers).

Relevant outcome means the student outcome(s) or other outcome(s) the key project component is designed to improve, consistent with the specific goals of the program.

Program Authority: Section 303(c) of the Rehabilitation Act (29 U.S.C. 773(c)).

Applicable Regulations: (a) The Education Department General Administrative Regulations (EDGAR) in 34 CFR parts 75, 77, 79, 81, 82, 84, 86, 97, and 99. (b) The Office of Management and Budget Guidelines to Agencies on Governmentwide Debarment and Suspension (Nonprocurement) in 2 CFR part 180, as adopted and amended as regulations of the Department in 2 CFR part 3485. (c) The Uniform Administrative Requirements, Cost Principles, and Audit Requirements for Federal Awards in 2 CFR part 200, as adopted and amended as regulations of the Department in 2 CFR part 3474.

Cost Sharing or Matching: This program does not require cost sharing or matching.

Application and Submission Information:

1. Application Submission Instructions: Applicants are required to follow the Common Instructions for Applicants to Department of Education Discretionary Grant Programs, published in the Federal Register on December 23, 2024 (89 FR 104528) and available at https://www.federalregister.gov/d/2024-30488, which contain requirements and information on how to submit an application.

2. Intergovernmental Review: This competition is subject to intergovernmental review under Executive Order 12372. Information about this process is in the application package.

3. Recommended Page Limit: The application narrative is where you, the applicant, address the selection criteria that reviewers use to evaluate your application. We recommend that you (1) limit the application narrative to no more than 50 pages and (2) use the following standards:

• A “page” is 8.5″ x 11″, on one side only, with 1″ margins at the top, bottom, and both sides.

• Double space (no more than three lines per vertical inch) all text in the application narrative, including titles, headings, footnotes, quotations, reference citations, and captions, as well as all text in charts, tables, figures, graphs, and screen shots.

• Use a font that is 12 point or larger.

• Use one of the following fonts: Times New Roman, Courier, Courier New, or Arial.

The recommended page limit does not apply to the cover sheet; the budget section, including the narrative budget justification; the assurances and certifications; or the abstract (follow the guidance provided in the application package for completing the abstract), the table of contents, the list of priority requirements, the resumes, the reference list, the letters of support, or the appendices. However, the recommended page limit does apply to all of the application narrative, including all text in charts, tables, figures, graphs, and screen shots.

4. Review and Selection Process: We remind potential applicants that in reviewing applications in any discretionary grant competition, the Secretary may consider the past performance of the applicant in carrying out a previous award, such as the applicant's use of funds, achievement of project objectives, and compliance with grant conditions. The Secretary may also consider whether the applicant failed to submit a timely performance report or submitted a report of unacceptable quality.

In addition, in making a competitive grant award, the Secretary requires various assurances, including those applicable to Federal civil rights laws that prohibit discrimination in programs or activities receiving Federal financial assistance from the Department.

Note: If you are a nonprofit organization, under 34 CFR 75.51, you may demonstrate your nonprofit status by providing: (1) proof that the Internal Revenue Service currently recognizes the applicant as an organization to which contributions are tax deductible under section 501(c)(3) of the Internal Revenue Code; (2) a statement from a State taxing body or the State attorney general certifying that the organization is a nonprofit organization operating within the State and that no part of its net earnings may lawfully benefit any private shareholder or individual; (3) a certified copy of the applicant's certificate of incorporation or similar document if it clearly establishes the nonprofit status of the applicant; or (4) any item described above if that item applies to a State or national parent organization, together with a statement by the State or parent organization that the applicant is a local nonprofit affiliate.

Note: A faith-based organization is eligible to apply for and receive a grant under this program on the same basis as any other private organization, consistent with Appendix A to 34 CFR part 75.

5. Risk Assessment and Specific Conditions: Before awarding grants under this competition, the Department conducts a review of the risks posed by applicants. The Secretary may impose specific conditions and, in appropriate circumstances, high-risk conditions on a grant if the applicant or grantee is not financially stable; has a history of unsatisfactory performance; has a financial or other management system that does not meet the standards in 2 CFR part 200, subpart D; has not fulfilled the conditions of a prior grant; or is otherwise not responsible.

6. Integrity and Performance System: If you are selected under this competition to receive an award that over the course of the project period may exceed the simplified acquisition threshold (currently $250,000), we must make a judgment about your integrity, business ethics, and record of performance under Federal awards—that is, the risk posed by you as an applicant—before we make an award. In doing so, we must consider any information about you that is in the System for Award Management's (SAM) Responsibility/Qualification reports (formerly referred to as the Federal Awardee Performance and Integrity Information System (FAPIIS)). You may review and comment on any information about yourself that a Federal agency previously entered and that is currently in the Responsibility/Qualification reports in SAM.

If the total value of your currently active grants, cooperative agreements, and procurement contracts from the Federal Government exceeds $10,000,000, the reporting requirements in 2 CFR part 200, Appendix XII, require you to report certain integrity information to SAM semiannually. Please review these requirements if this grant plus all the other Federal funds you receive exceed $10,000,000.

Award Administration Information:

1. Award Notices: If your application is successful, we notify your U.S. Representative and U.S. Senators and send you a Grant Award Notification (GAN), or we may send you an email containing a link to access an electronic version of your GAN. We also may notify you informally.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Open Licensing Requirements: Unless an exception applies, if you are awarded a grant under this competition, you will be required to openly license to the public grant deliverables created in whole, or in part, with Department grant funds. When the deliverable consists of modifications to pre-existing works, the license extends only to those modifications that can be separately identified and only to the extent that open licensing is permitted under the terms of any licenses or other legal restrictions on the use of pre-existing works. Additionally, a grantee that is awarded competitive grant funds must have a plan to disseminate these public grant deliverables. This dissemination plan can be developed and submitted after your application has been reviewed and selected for funding. For additional information on the open licensing requirements please refer to 2 CFR 3474.20.

4. Reporting: (a) If you apply for a grant under this competition, you must ensure that you have in place the necessary processes and systems to comply with the reporting requirements should you receive funding under the competition. This does not apply if you have an exception.

(b) At the end of your project period, you must submit a final performance report, including financial information, as directed by the Secretary. If you receive a multiyear award, you must submit an annual performance report that provides the most current performance and financial expenditure information as directed by the Secretary. The Secretary may also require more frequent performance reports. For specific requirements on reporting, please go to www.ed.gov/fund/grant/apply/appforms/appforms.html.

(c) The Secretary may provide a grantee with additional funding for data collection analysis and reporting. In this case the Secretary establishes a data collection period.

5. Continuation Awards: In making a continuation award, the Secretary considers, among other things: whether a grantee has made substantial progress in achieving the goals and objectives of the project; whether the grantee has expended funds in a manner that is consistent with its approved application and budget; if the Secretary has established performance measurement requirements, whether the grantee has made substantial progress in achieving the performance targets in the grantee's approved application; and whether the continuation of the project is in the best interest of the Federal Government.

In making a continuation award, the Secretary also considers whether the grantee is operating in compliance with the assurances in its approved application, including those applicable to Federal civil rights laws that prohibit discrimination in programs or activities receiving Federal financial assistance from the Department.

Accessible Format: On request to the program contact person listed under FOR FURTHER INFORMATION CONTACT, individuals with disabilities can obtain this document and a copy of the application package in an accessible format. The Department will provide the requestor with an accessible format that may include Rich Text Format (RTF) or text format (txt), a thumb drive, an MP3 file, braille, large print, audiotape, compact disc, or other accessible format.

Diana Diaz,
Deputy Assistant Secretary and Acting Assistant Secretary for Special Education and Rehabilitative Services.

[FR Doc. 2025-09428 Filed 5-23-25; 8:45 am]

BILLING CODE 4000-01-P